DEPARTMENT OF COMMERCE

National Institute of Standards and Technology

[Docket Number: 100311134-0141-01]

Professional Research Experience Program in Chemical Science and Technology Laboratory; Availability of Funds

AGENCY: National Institute of Standards and Technology, Commerce.

ACTION: Notice.

SUMMARY: The National Institute of Standards and Technology (NIST) Chemical Science and Technology Laboratory (CSTL) announces that the Professional Research Experience Program (PREP-CSTL) is soliciting applications for financial assistance from accredited colleges and universities to enable those institutions to provide laboratory experiences and financial assistance to undergraduate and graduate students and post-doctoral associates in the Chemical Science and Technology Laboratory (CSTL) at the NIST, Gaithersburg Laboratories in Gaithersburg, Maryland or the NIST, Hollings Marine Laboratory in Charleston, South Carolina.

DATES: All applications, paper and electronic, must be received no later than 5 p.m. Eastern Daylight Time on June 19, 2010. Applications received after this deadline will not be reviewed or considered.

ADDRESSES: Hard copies of full proposals must be submitted to: Donna Kimball; Grants Coordinator, NIST Chemical Science and Technology Laboratory; National Institute of Standards and Technology; 100 Bureau Drive, Stop 8300; Gaithersburg, MD 20899-8300. Electronic submissions of full proposals should be submitted at http://www.grants.gov.

FOR FURTHER INFORMATION CONTACT: A paper copy of the Federal Funding Opportunity (FFO) announcement may be obtained by calling (301) 975-8362. Technical questions should be addressed to: Donna Kimball at the address listed in the Addresses section above, or at Tel: (301) 975-8362; E-mail: donna.kimball@nist.gov or Web site: http://www.nist.gov/cstl. Grants Administration questions should be addressed to: Grants and Agreements Management Division; National Institute of Standards and Technology; 100 Bureau Drive, Stop 1650; Gaithersburg, MD 20899-1650; Tel: (301) 975-6328. For assistance with using Grants.gov contact support@grants.gov or call 800-518-4726.

SUPPLEMENTARY INFORMATION: Electronic access: Applicants are strongly encouraged to read the Federal Funding Opportunity (FFO) available at http://www.grants.gov for complete information about this program, all program requirements, and instructions for applying by paper or electronically.

Authority: The authority for the Professional Research Experience Program in Chemical Science and Technology Laboratory (PREP-CSTL) is as follows: As authorized by 15 U.S.C. 278g-1(a), NIST conducts directly, and supports through grants, awards of research fellowships and other forms of financial assistance to students at institutions of higher learning within the U.S. whose research is relevant to the mission and programs of NIST.

Catalog of Federal Domestic Assistance Name and Number: Measurement and Engineering Research and Standards—11.609.

Program Description: The National Institute of Standards and Technology (NIST) Chemical Science and Technology Laboratory (CSTL) announces that the Professional Research Experience Program (PREP-CSTL) is soliciting applications for financial assistance from accredited colleges and universities to enable those institutions to provide laboratory experiences and financial assistance to undergraduate and graduate students and post-doctoral associates in the CSTL at the NIST, Gaithersburg Laboratories in Gaithersburg, Maryland or at the NIST Hollings Marine Laboratory in Charleston, South Carolina. In Gaithersburg, the CSTL carries out programs in the following fields of measurement science research, focused on reference methods, reference materials and reference data: Biochemical Science, Chemical and Biochemical Reference Data, Process Measurements, Surface and Microanalysis Science, Thermophysical Properties, and Analytical Chemistry. In Charleston, the CSTL carries out programs in the following fields of measurement science research, focused on reference methods, reference materials, and reference data: Biochemical Science, Chemical and Biochemical Reference Data, and Analytical Chemistry. Financial assistance may be provided for research support and professional development opportunities that include conferences, workshops, or other technical research meetings that are relevant to the mission of the CSTL.

The objectives of the PREP-CSTL are to encourage the growth and progress of science and engineering in the United States by providing research opportunities for students and post-doctoral associates, enabling them to collaborate with internationally known NIST scientists, exposing them to cutting-edge research. The PREP-CSTL will promote students' pursuit of degrees in science and engineering, and post-doctoral associates' professional development in science and engineering. The PREP-CSTL Coordinator and NIST/CSTL scientists will coordinate with appropriate division chiefs, outreach coordinators, and directors of multi-disciplinary academic organizations to identify students and programs that would benefit from the PREP-CSTL experience. Applicants must be able to ensure the availability of students for on-site collaborative research experiences at the NIST/CSTL Laboratories in Gaithersburg, Maryland and Charleston, South Carolina, concurrent with their university studies. Any participating student must also be enrolled in an academic program acceptable to both the sponsoring institution and NIST/CSTL.

Funding Availability: Funding for the PREP-CSTL will be provided as fellows are identified by the successful applicant and approved by NIST/CSTL. Fellowship support from NIST/CSTL under the PREP-CSTL is contingent upon the availability of NIST/CSTL program funds, NIST/CSTL program objectives, and the discretion of NIST/CSTL advisors.

NIST anticipates awarding one or more cooperative agreements to eligible institution(s).

In no event will NIST or the Department of Commerce be responsible for proposal preparation costs if these programs fail to receive funding or are cancelled because of agency priorities. Publication of this announcement does not oblige NIST or the Department of Commerce to award any specific project or to obligate any available funds.

Successful applicants will be eligible, but are not required, to participate in the PREP-CSTL for up to a 5-year period beginning at the time of award.

NIST plans to fund the awards as cooperative agreements.

Cost Share Requirements: Cost sharing and matching are not required under this program.

Indirect costs also are eligible project costs and applicants are encouraged to propose to cover them as cost share under this program. Any indirect costs proposed in an application under this program must not exceed the indirect cost rate negotiated with the applicant's cognizant or oversight Federal agency prior to the proposed effective date of the award.

Eligibility: Eligible applicants are accredited institutions of higher education in the United States and its territories that offer undergraduate and graduate degrees in physics, chemistry, mathematics, computer science, or engineering. Institutions should have a 4-year degree plan. Undergraduate and graduate students who receive fellowships under the PREP-CSTL must show evidence of a 3.0 or higher grade point average in a curriculum acceptable to the sponsoring educational institution and NIST/CSTL and must be enrolled full-time at a sponsoring institution. Post-doctoral associates must be affiliated with a sponsoring institution of higher education and be no more than 5 years beyond receiving their Ph.D. The program provides fellowships to undergraduate and graduates for a maximum of 5 years duration.

When a proposal for a multi-year award is approved, funding will generally be provided for only the first year of the program. If an application is selected for funding, NIST has no obligation to provide any additional funding in connection with that award. Continuation of an award to increase funding or extend the period of performance is at the total discretion of NIST. Funding for each subsequent year of a multi-year proposal will be contingent upon satisfactory progress, continued relevance to the mission of CSTL and the availability of funds. The multi-year awards must have scopes of work that can be easily separated into annual increments of meaningful work that represent solid accomplishments if prospective funding is not made available to the applicant, (i.e., the scopes of work for each funding period must produce identifiable and meaningful results in and of themselves).

Each proposal should include necessary costs to provide oversight of the program. All successful applicants will be required to have a PREP-CSTL coordinator. Responsibilities of the successful applicant's PREP-CSTL coordinator include: serving as a single point of contact for University staff, PREP-CSTL applicants and participants, and NIST/CSTL research scientists and engineers; assisting students, University sponsors, and NIST/CSTL advisors in implementing the program and resolving any difficulties that may arise, and serving as the signatory on all agreements between NIST/CSTL, the University, and each fellow.

Evaluation Criteria: The applications will be evaluated and scored on the basis of the following evaluation criteria:

(a) Soundness of the applicant's academic program, proposed project objectives, and appropriateness of proposed student work assignments in light of ongoing research at NIST/CSTL and the students' academic programs. (30 points.)

(b) Experience in providing students pursuing degrees in physics, chemistry, mathematics, computer science, or engineering with work experiences in laboratories or other settings consistent with furthering the students' education. (30 points.)

(c) Adequacy and reasonableness of plans for administering the project and coordinating with the NIST/CSTL Director and PREP-CSTL Administrative Coordinator in Gaithersburg, Maryland. (20 points.)

(d) Costs of the proposed project budget (proposed fellowships and other proposed costs) in light of the activities proposed and the objectives of the sponsoring institution and NIST. Voluntary cost sharing may include, but is not limited to, cash contributions for direct costs, contributions of indirect costs, or third-party in-kind contributions. (20 points.)

Review and Selection Process: Screening of Applications: All PREP-CSTL proposals must be submitted to the NIST/CSTL PREP-CSTL Administrative Coordinator. Each proposal is examined for completeness and responsiveness to the scope of the stated objectives of the PREP-CSTL. Substantially incomplete or non-responsive proposals will not be reviewed for technical merit nor considered for funding, and the applicant will be notified. The NIST/CSTL PREP-CSTL Administrative Coordinator will retain one copy of each non-responsive application for three years for recordkeeping purposes. The remaining copies will be destroyed.

Each complete and responsive PREP-CSTL application packet will be reviewed by at least three independent, objective NIST scientists, all of whom are NIST employees, who are knowledgeable in the subject matter of this announcement and its objectives and who are able to conduct a review based on the Evaluation Criteria for the PREP-CSTL as described in this notice.

The merit review ratings shall provide a rank order to a Selecting Official for final funding recommendations. The Selecting Official will be the Director of the NIST Chemical Science and Technology Laboratory in Gaithersburg, Maryland. A Federal Program Officer may first make recommendations to the Selecting Official. The Selecting Official shall recommend for award in the rank order unless the proposal is justified to be selected out of rank order. Justification for award order different from the rank order shall be based upon one or more of the following factors:

1. Availability of funds.

2. Applicant's prior award performance.

The final selection of applications and award of cooperative agreements will be made by the NIST Grants Officer in Gaithersburg, Maryland, based on compliance with application requirements as published in this notice, compliance with applicable legal and regulatory requirements, and whether the recommended applicants appear to be responsible. Unsatisfactory performance on any previous Federal award may result in an application not being considered for funding. Applicants may be asked to modify objectives, work plans, or budgets, and provide supplemental information required by the agency prior to award. The decision of the Grants Officer is final. Applicants should allow up to 60 days processing time.

The Department of Commerce Pre-Award Notification Requirements for Grants and Cooperative Agreements: The Department of Commerce Pre-Award Notification Requirements for Grants and Cooperative Agreements are contained in, 73 FR 7696 (February 11, 2008), apply to this notice. On the form SF-424 items 8.b. and 8.c., the applicant's 9-digit Employer/Taxpayer Identification Number (EIN/TIN) and 9-digit Dun and Bradstreet Data Universal Numbering System (DUNS) number must be consistent with the information on the Central Contractor Registration (CCR) (http://www.ccr.gov) and Automated Standard Application for Payment System (ASAP). For complex organizations with multiple EIN/TIN and DUNS numbers, the EIN/TIN and DUNS number MUST be the numbers for the applying organization. Organizations that provide incorrect/inconsistent EIN/TIN and DUNS numbers may experience significant delays in receiving funds if their proposal is selected for funding. Please confirm that the EIN/TIN and DUNS number are consistent with the information on the CCR and ASAP.

Collaborations with NIST Employees: Collaboration with NIST is presumed in PREP-CSTL. If any applicant proposes any activities involving specific NIST employees, the statement of work should include a statement of this intention, a description of the collaboration, and prominently identify the NIST employee(s) involved. Any collaboration by a NIST employee must be approved by appropriate NIST management and is at the sole discretion of NIST. Prior to beginning the merit review process, NIST will verify the approval of the proposed collaboration. Any unapproved collaboration will be stricken from the proposal prior to the merit review.

Use of NIST Intellectual Property: If the applicant anticipates using any NIST-owned intellectual property to carry out the work proposed, the applicant should identify such intellectual property. This information will be used to ensure that no NIST employee involved in the development of the intellectual property will participate in the review process for that competition. In addition, if the applicant intends to use NIST-owned intellectual property, the applicant must comply with all statutes and regulations governing the licensing of Federal government patents and inventions, described at 35 U.S.C. 200-212, 37 CFR Part 401, 15 CFR Part 14.36, and in Section B.21 of the Department of Commerce Pre-Award Notification Requirements, 73 FR 7696 (February 11, 2008). Questions about these requirements may be directed to the Counsel for NIST, 301-975-2803.

Any use of NIST-owned intellectual property by a proposer is at the sole discretion of NIST and will be negotiated on a case-by-case basis if a project is deemed meritorious. The applicant should indicate within the statement of work whether it already has a license to use such intellectual property or whether it intends to seek one.

If any inventions made in whole or in part by a NIST employee arise in the course of an award made pursuant to this notice, the United States government may retain its ownership rights in any such invention. Disposition of NIST's retained rights in such inventions will be determined solely by NIST, and may include, but is not limited to, the grant of a license(s) to parties other than the applicant to practice such invention, or placing NIST's retained rights into the public domain.

Collaborations Making Use of Federal Facilities: All applications should include a description of any work proposed to be performed using Federal Facilities. If an applicant proposes use of NIST facilities, the statement of work should include a statement of this intention and a description of the facilities. Any use of NIST facilities must be approved by appropriate NIST management and is at the sole discretion of NIST. Prior to beginning the merit review process, NIST will verify the availability of the facilities and approval of the proposed usage. Any unapproved facility use will be stricken from the proposal prior to the merit review. Examples of some facilities that may be available for collaborations are listed on the NIST Technology Services Web site, http://ts.nist.gov/.

Paperwork Reduction Act: The standard forms in the application kit involve a collection of information subject to the Paperwork Reduction Act. The use of Standard Forms 424, 424A, 424B, 424 (R&R), SF-LLL, and CD-346 have been approved by OMB under the respective Control Numbers 0348-0043, 0348-0044, 0348-0040, 4040-0001, 0348-0046, and 0605-0001.

Notwithstanding any other provision of the law, no person is required to respond to, nor shall any person be subject to a penalty for failure to comply with, a collection of information subject to the requirements of the Paperwork Reduction Act, unless that collection of information displays a currently valid OMB Control Number.

Research Projects Involving Human Subjects, Human Tissue, Data or Recordings Involving Human Subjects: Any proposal that includes research involving human subjects, human tissue, data or recordings involving human subjects must meet the requirements of the Common Rule for the Protection of Human Subjects, codified for the Department of Commerce at 15 CFR Part 27. In addition, any proposal that includes research on these topics must be in compliance with any statutory requirements imposed upon the Department of Health and Human Services (DHHS) and other Federal agencies regarding these topics, all regulatory policies and guidance adopted by DHHS, the Food and Drug Administration, and other Federal agencies on these topics, and all Presidential statements of policy on these topics.

NIST will accept the submission of proposals containing research activities involving human subjects. The human subjects research activities in a proposal will require approval by Institutional Review Boards (IRBs) possessing a current registration filed with DHHS and to be performed by institutions possessing a current, valid Federal-wide Assurance (FWA) from DHHS that is linked to the cognizant IRB. In addition, NIST as an institution requires that IRB approval documentation go through a NIST administrative review; therefore, research activities involving human subjects are not authorized to start within an award until approval for the activity is issued in writing from the NIST Grants Officer. NIST will not issue a single project assurance (SPA) for any IRB reviewing any human subjects protocol proposed to NIST.

President Obama has issued Executive Order No. 13,505 (74 FR 10667, March 9, 2009), revoking previous Executive Orders and Presidential statements regarding the use of human embryonic stem cells in research. On July 30, 2009, President Obama issued a memorandum directing that agencies that support and conduct stem cell research adopt the “National Institutes of Health Guidelines for Human Stem Cell Research” (NIH Guidelines), which became effective on July 7, 2009, “to the fullest extent practicable in light of legal authorities and obligations.” On September 21, 2009, the Department of Commerce submitted to the Office of Management and Budget a statement of compliance with the NIH Guidelines. In accordance with the President's memorandum, the NIH Guidelines, and the Department of Commerce statement of compliance, NIST will support and conduct research using only human embryonic stem cell lines that have been approved by NIH in accordance with the NIH Guidelines and will review such research in accordance with the Common Rule and NIST implementing procedures, as appropriate. NIST will not support or conduct any type of research that the NIH Guidelines prohibit NIH from funding. NIST will follow any additional polices or guidance issued by the current Administration on this topic.

Research Projects Involving Vertebrate Animals: Any proposal that includes research involving vertebrate animals must be in compliance with the National Research Council's “Guide for the Care and Use of Laboratory Animals” which can be obtained from National Academy Press, 2101 Constitution Avenue, NW., Washington, DC 20055. In addition, such proposals must meet the requirements of the Animal Welfare Act (7 U.S.C. 2131 et seq.), 9 CFR Parts 1, 2, and 3, and if appropriate, 21 CFR Part 58. These regulations do not apply to proposed research using pre-existing images of animals or to research plans that do not include live animals that are being cared for, euthanized, or used by the project participants to accomplish research goals, teaching, or testing. These regulations also do not apply to obtaining animal materials from commercial processors of animal products or to animal cell lines or tissues from tissue banks.

Limitation of Liability: NIST anticipates making awards for the program listed in this notice. In no event will NIST or the Department of Commerce be responsible for proposal preparation cost if these programs(s) fail to receive funding or are cancelled because of other agency priorities. Publication of this announcement does not obligate NIST or the Department of Commerce to award any specific project or to obligate any available funds.

Executive Order 12866: This funding notice was determined to be not significant for purposes of Executive Order 12866.

Executive Order 13132 (Federalism): It has been determined that this notice does not contain policies with federalism implications as that term is defined in Executive Order 13132.

Executive Order 12372: Applications under this program are not subject to Executive Order 12372, “Intergovernmental Review of Federal Programs.”

Administrative Procedure Act/Regulatory Flexibility Act: Notice and comment are not required under the Administrative Procedure Act (5 U.S.C. 553) or any other law, for rules relating to public property, loans, grants, benefits or contracts (5 U.S.C. 553(a)). Because notice and comment are not required under 5 U.S.C. 553, or any other law, for rules relating to public property, loans, grants, benefits or contracts (5 U.S.C. 553(a)), a Regulatory Flexibility Analysis is not required and has not been prepared for this notice, 5 U.S.C. 601 et seq.

Dated: March 25, 2010.
Marc G. Stanley,
Acting Deputy Director.

[FR Doc. 2010-7051 Filed 3-29-10; 8:45 am]

BILLING CODE 3510-13-P